DEPARTMENT OF HEALTH AND HUMAN SERVICES

Centers for Disease Control and Prevention

[Program Announcement 04153]

Building National Monitoring and Evaluation Capacity in the Caribbean; Notice of Intent To Fund Single Eligibility Award

A. Purpose

The Centers for Disease Control and Prevention (CDC) announces the intent to fund fiscal year (FY) 2004 funds for a cooperative agreement program to increase the capacity for National AIDS Programs (NAP) to implement an effective monitoring and evaluation (M&E) framework. The Catalog of Federal Domestic Assistance number for this program is 93.941.

B. Eligible Applicant

Assistance will be provided only to the Caribbean Health Research Council (CHRC). CHRC is the most appropriate and qualified agency to conduct a specific set of activities supportive of CDC's M&E goals in the region because of CHRC's:

• Historical presence in the region for over 50 years.

• Support of key regional institutions to be the M&E technical lead in the region with support coming from:

—Caribbean Community Secretariat (CARICOM)

—Caribbean Epidemiology Centre (CAREC)

—Caribbean Regional Network of People Living with HIV/AIDS (CRN+)

—United Nations Joint Program in AIDS (UNAIDS)

—University of the West Indies (UWI)

Note: All partners listed to be in support of CHRC technical leadership are all currently working in collaboration and/or direct partnership with the CDC/GAP Caribbean Regional Office.

• Endorsement by the Caribbean Coalition of National AIDS Program Coordinators as technically leading the Monitoring & Evaluation Technical Working Group in collaboration with CAREC and UNAIDS.

• Experience in extending technical assistance for monitoring and evaluation in eight countries in the region.

• Publication of the “Caribbean Indicators and Measurement Tools for the Evaluation of National AIDS Programmes (CIMT)”. This was the product of two workshops that included persons involved in the NAP in a number of Caribbean countries, other key stakeholders and M&E consultants.

C. Funding

Approximately $500,000 is available in FY 2004 to fund this award. It is expected that the award will begin on or before July 1, 2004, and will be made for a 12-month budget period within a project period of up to five years. Funding estimates may change.

D. Where To Obtain Additional Information

For general comments or questions about this announcement, contact: Technical Information Management, CDC Procurement and Grants Office, 2920 Brandywine Road, Atlanta, GA 30341-4146, Telephone: 770-488-2700.

For program technical assistance, contact: Ken Hunt, Project Officer, 8-9 Alexandra Street, St. Clair, Port of Spain, Trinidad, Office: 868-622-3651, Cell: 868-685-7751, E-mail: khunt@cdc.gov.

For financial, grants management, or budget assistance, contact: Diane Flournoy, Contract Specialist, International Territories Acquisition & Assistance, 2920 Brandywine Road, Atlanta, GA 30341, Telephone: 770-488-2072, E-mail: dflournoy@cdc.gov.

Dated: June 16, 2004.
William P. Nichols,
Acting Director, Procurement and Grants Office, Centers for Disease Control and Prevention.

[FR Doc. 04-14175 Filed 6-22-04; 8:45 am]

BILLING CODE 4163-18-P